DEPARTMENT OF VETERANS AFFAIRS

[OMB Control No. 2900-0571]

Proposed Information Collection Activity: Proposed Collection; Comment Request

AGENCY: National Cemetery Administration, Department of Veterans Affairs.

ACTION: Notice.

SUMMARY: The National Cemetery Administration (NCA), Department of Veterans Affairs (VA) is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments on the burden estimates relating to customer satisfaction surveys involving the National Cemetery Administration (NCA) and the Office of Inspector General (OIG).

DATES: Written comments and recommendations on the proposed collection of information should be received on or before November 13, 2006.

ADDRESSES: Submit written comments on the collection of information to Ronald Cheich, National Cemetery Administration (41B3), Department of Veterans Affairs, 810 Vermont Avenue, NW., Washington, DC 20420 or e-mail ronald.cheich@.va.gov. Please refer to “OMB Control No. 2900-0571” in any correspondence.

FOR FURTHER INFORMATION CONTACT: Ronald Cheich at (202) 273-8087.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VA invites comments on: (1) Whether the proposed collection of information is necessary for the proper performance of VA's functions, including whether the information will have practical utility; (2) the accuracy of VA's estimate of the burden of the proposed collection of information; (3) ways to enhance the quality, utility, and clarity of the information to be collected; and (4) ways to minimize the burden of the collection of information on respondents, including through the use of automated collection techniques or the use of other forms of information technology.

Title: Generic Clearance for NCA, and IG Customer Satisfaction Surveys.

OMB Control Number: 2900-0571.

Type of Review: Extension of a currently approved collection.

Abstract: Executive Order 12862, Setting Customer Service Standards, requires Federal agencies and Departments to identify and survey its customers to determine the kind and quality of services they want and their level of satisfaction with existing service. VA will use the data collected to maintain ongoing measures of performance and to determine how well customer service standards are met.

Affected Public: Individuals or households, Business or Other For-Profit and State, Local or Tribal Government.

Listing of Survey Activities: The following list of activities is a compendium of customer satisfaction survey plans by the NCA and IG. The actual conduct of any particular activity listed could be affected by circumstances. A change in, or refinement of, our focus in a specific area, as well as resource constraints could require deletion or substitution of any listed item. If these organizations substitute or propose to add a new activity that falls under the umbrella of this generic approval, including those activities that are currently in a planning stage, OMB will be notified and will be furnished a copy of pertinent materials, a description of the activity and number of burden hours involved. NCA and IG will conduct periodic reviews of ongoing survey activities to ensure that they comply with the PRA.

I. National Cemetery Administration

Focus Groups with Next of Kin (10 participants per group/3 hours each session).

Year | Number of respondents | Estimated annual burden | Frequency
2007 | 50 | 150 | 5 Groups Annually.
2008 | 50 | 150 | 5 Groups Annually.
2009 | 50 | 150 | 5 Groups Annually.

Focus Groups with Funeral Directors (10 participants per group/3 hours each session).

Year | Number of respondents | Estimated annual burden (hours) | Frequency
2007 | 50 | 150 | 5 Groups Annually.
2008 | 50 | 150 | 5 Groups Annually.
2009 | 50 | 150 | 5 Groups Annually.

Focus Groups with Veterans Service Organizations (10 participants per group/3 hours each session).

Year | Number of respondents | Estimated annual burden (hours) | Frequency
2007 | 50 | 150 | 5 Groups Annually.
2008 | 50 | 150 | 5 Groups Annually.
2009 | 50 | 150 | 5 Groups Annually.

Visitor Comments Cards (Local Use) (2,500 respondents/5 minutes per card).

Year | Number of respondents | Estimated annual burden (hours) | Frequency
2007 | 2,500 | 208 | Annually.
2008 | 2,500 | 208 | Annually.
2009 | 2,500 | 208 | Annually.

Next of Kin National Customer Satisfaction Survey (Mail to 15,000 respondents/30 minutes per survey).

Year | Number of respondents | Estimated annual burden (hours) | Frequency
2007 | 15,000 | 7,500 | Annually.
2008 | 15,000 | 7,500 | Annually.
2009 | 15,000 | 7,500 | Annually.

Funeral Directors National Customer Satisfaction Survey (Mail to 4,000 respondents/30 minutes per survey).

Year | Number of respondents | Estimated annual burden (hours) | Frequency
2007 | 4,000 | 2,000 | Annually.
2008 | 4,000 | 2,000 | Annually.
2009 | 4,000 | 2,000 | Annually

Veterans-At-Large National Customer Satisfaction Survey (Mail to 5,000 respondents/30 minutes per survey).

Year | Number of respondents | Estimated annual burden (hours) | Frequency
2007 | 5,000 | 2,500 | Annually.
2008 | 5,000 | 2,500 | Annually.
2009 | 5,000 | 2,500 | Annually.

Program/Specialized Service Survey (Mail to 2,000 respondents/15 minutes per each).

Year | Number of respondents | Estimated annual burden (hours) | Frequency
2007 | 2,000 | 500 | Annually.
2008 | 2,000 | 500 | Annually.
2009 | 2,000 | 500 | Annually.

II. Office Of Inspector General

Community Based Outpatient Clinic Patient Survey (1,000 respondents/10 minutes per response)

Year | Number of respondents | Estimated annual burden | Frequency
2007 | 1,000 | 167 | Annually.
2008 | 1,000 | 167 | Annually.
2009 | 1,000 | 167 | Annually.

Dated: September 7, 2006.
By direction of the Secretary.
Denise McLamb,
Program Analyst, Initiative Coordination Service.

[FR Doc. E6-15276 Filed 9-13-06; 8:45 am]

BILLING CODE 8320-01-P